DEPARTMENT OF ENERGY

Federal Energy Regulatory Commission

[Project No. 11865-002]

Kabatica General Partners; Notice of Surrender of Preliminary Permit

July 3, 2003.

Take notice that Kabatica General Partners, permittee for the proposed Lower Rocky Creek Project, has requested that its preliminary permit be terminated. The permit was issued on April 11, 2001, and would have expired on March 31, 2004. The project would have been located on Rocky Creek in Whatcom County, Washington.

The permittee filed the request on May 21, 2003, and the preliminary permit for Project No. 11865 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linda Mitry,
Acting Secretary.

[FR Doc. 03-17491 Filed 7-9-03; 8:45 am]

BILLING CODE 6717-01-P